OFFICE OF THE UNITED STATES TRADE REPRESENTATIVE

Generalized System of Preferences (GSP): Initiation of a Review of the Union of Burma and the Lao People's Democratic Republic for Possible Designation as Beneficiary Developing Countries

AGENCY: Office of the United States Trade Representative.

ACTION: Notice and request for submissions.

SUMMARY: This notice announces (1) the initiation of reviews to consider designation of the Union of Burma (Burma) and the Lao People's Democratic Republic (Laos) as beneficiary developing countries under the GSP program, and, if designated, whether either country should also be designated as a least-developed beneficiary developing country under GSP, and (2) the schedule for public comments and a public hearing relating to whether Burma and/or Laos meet the criteria for both designations.

FOR FURTHER INFORMATION CONTACT: Tameka Cooper, GSP Program, Office of the United States Trade Representative, 600 17th Street NW., Room 422, Washington, DC 20508. The telephone number is (202) 395-6971, the fax number is (202) 395-9674, and the email address is Tameka_Cooper@ustr.eop.gov.

DATES: May 17, 2013: Deadline for submission of comments, pre-hearing briefs, and requests to appear at the June 4, 2013 public hearing; submissions must be received by 5:00 p.m.

June 4, 2013: The GSP Subcommittee of the Trade Policy Staff Committee (TPSC) will convene a public hearing on the GSP eligibility reviews of Burma and Laos at 1724 F Street NW., Washington, DC 20508, beginning at 9:00 a.m.

June 25, 2013: Deadline for submission of post-hearing briefs, which must be received by 5:00 p.m.

Background Information

The GSP program is authorized by Title V of the Trade Act of 1974 (19 U.S.C. 2461, et seq.), as amended. It provides for duty free treatment of designated articles imported from any country that the President designates as a GSP “beneficiary developing country.” Additional trade benefits under the GSP are available to any country that the President also designates as a GSP “least-developed beneficiary developing country.” In designating countries as GSP beneficiary developing countries, the President must consider the criteria in sections 502(b)(2) and 502(c) of the Trade Act of 1974, as amended (19 U.S.C. 2462(b)(2), 2462(c)) (“the Act”), including definitions found in section 507 of the Act (19 U.S.C. 2467). When determining whether to designate a country as a least-developed beneficiary developing country, the President must consider the factors in sections 501 and 502(c) of the Act (19 U.S.C. 2461, 2462(c)). The relevant GSP provisions are available on the USTR Web site at: http://www.ustr.gov/trade-topics/trade-development/preference-programs/generalized-system-preference-gsp/gsp-program-inf.

Burma was previously designated a beneficiary developing country under GSP but its trade benefits under GSP were suspended, effective July 1, 1989, as a result of a presidential determination that the country was not meeting the statutory GSP eligibility requirements regarding internationally recognized worker rights. Laos has not previously been considered for eligibility for GSP trade benefits. The governments of Burma and Laos, respectively, have each recently informed USTR of their interest in being considered for designation as eligible for GSP trade benefits.

Notice of Public Hearing

A hearing will be held by the GSP Subcommittee of the TPSC on Tuesday, June 4, 2013, beginning at 9:00 a.m., to receive information regarding the eligibility for GSP trade benefits of Burma and Laos. The hearing will be held at 1724 F Street NW., Washington, DC 20508 and will be open to the public and to the press. A transcript of the hearing will be made available on http://www.regulations.gov within approximately two weeks of the hearing.

All interested parties wishing to make an oral presentation at the hearing must submit, following the “Requirements for Submissions” set out below, the name, address, telephone number, and email address, if available, of the witness(es) representing their organization by 5 p.m., May 17, 2013. Requests to present oral testimony must be accompanied by a written brief or summary statement, in English, and also must be received by 5 p.m., May 17, 2013. Oral testimony before the GSP Subcommittee will be limited to five-minute presentations that summarize or supplement information contained in briefs or statements submitted for the record. Post-hearing briefs or statements will be accepted if they conform with the requirements set out below and are submitted, in English, by 5 p.m., June 25, 2013. Parties not wishing to appear at the public hearing may submit pre-hearing and post-hearing briefs or comments by the aforementioned deadlines.

The GSP Subcommittee strongly encourages submission of all post-hearing briefs or statements by the June 25, 2013 deadline in order to receive timely consideration in the GSP Subcommittee's review of GSP eligibility of Burma and Laos. However, if there are new developments or information that parties wish to share with the GSP Subcommittee after this date, the regulations.gov dockets will remain open until a final decision is made. Comments, letters, or other submissions related to the relevant country's eligibility review must be posted to the appropriate country-specific http://www.regulations.gov docket in order to be considered by the GSP Subcommittee.

Requirements for Submissions

All submissions in response to this notice must conform to the GSP regulations set forth at 15 CFR part 2007, except as modified below. These regulations are available on the USTR Web site at http://www.ustr.gov/trade-topics/trade-development/preference-programs/generalized-system-preference-gsp/gsp-program-inf.

To ensure their timely and expeditious receipt and consideration, submissions in response to this notice must be in English and must be submitted electronically via http://www.regulations.gov, using docket number USTR-2013-0020 for Burma and docket number USTR-2013-0021 for Laos. Hand-delivered submissions will not be accepted.

To make a submission using http://www.regulations.gov, enter the country-specific docket number in the “Search for” field on the home page and click “Search.” The site will provide a search-results page listing all documents associated with this docket. Find a reference to this notice by selecting “Notice” under “Document Type” in the “Filter Results by” section on the left side of the screen and click on the link entitled “Comment Now.” The http://www.regulations.gov Web site offers the option of providing comments by filling in a “Type Comment” field or by attaching a document using the “Upload file(s)” field. The GSP Subcommittee prefers that submissions be provided in an attached document. At the beginning of the submission, or on the first page (if an attachment), please note that the submission is in response to this Federal Register notice and provides comments on the possible designation of Burma or Laos as a beneficiary developing country or least-developed country beneficiary developing country for purposes of the GSP program. Submissions should not exceed 30 single-spaced, standard letter-size pages in 12-point type, including attachments. Any data attachments to the submission should be included in the same file as the submission itself, and not as separate files.

Each submitter will receive a submission tracking number upon completion of the submissions procedure at http://www.regulations.gov. The tracking number will be the submitter's confirmation that the submission was received into http://www.regulations.gov. The confirmation should be kept for the submitter's records. USTR is not able to provide technical assistance for the Web site. Documents not submitted in accordance with these instructions may not be considered in this review. If an interested party is unable to provide submissions as requested, please contact the GSP Program at USTR to arrange for an alternative method of transmission.

Business Confidential Submissions

An interested party requesting that information contained in a submission be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. For any submission containing business confidential information, a non-confidential version must be submitted separately (i.e., not as part of the same submission with the confidential version), indicating where confidential information has been redacted. The non-confidential version will be placed in the docket and open to public inspection.

Public Viewing of Review Submissions

Submissions in response to this notice, except for information granted “business confidential” status under 15 CFR § 2003.6, will be available for public viewing pursuant to 15 CFR § 2007.6 at http://www.regulations.gov upon completion of processing. Such submissions may be viewed by entering the country-specific docket number in the search field at http://www.regulations.gov.

William D. Jackson,
Deputy Assistant U.S. Trade Representative for the Generalized System of Preferences, Office of the U.S. Trade Representative.

[FR Doc. 2013-08813 Filed 4-15-13; 8:45 am]

BILLING CODE 3290-F3-P